DEPARTMENT OF COMMERCE

National Oceanic and Atmospheric Administration

[RTID 0648-XC052]

Western Pacific Fishery Management Council; Public Meetings

AGENCY: National Marine Fisheries Service (NMFS), National Oceanic and Atmospheric Administration (NOAA), Commerce.

ACTION: Notice of public meeting.

SUMMARY: The Western Pacific Fishery Management Council (Council) will hold its Fishing Industry Advisory Committee (FIAC), American Samoa Fishery Archipelago Fishery Ecosystem Plan (FEP) Advisory Panel (AP), Non-Commercial Fishing Advisory Committee (NCFAC) Meeting, Mariana Archipelago FEP—Guam AP, Mariana Archipelago FEP—Commonwealth of the Northern Mariana Islands (CNMI) AP, and the Hawaii Archipelago FEP AP to discuss and make recommendations on fishery management issues in the Western Pacific Region.

DATES: The meetings will be held between June 6 and June 10, 2022. For specific times and agendas, see SUPPLEMENTARY INFORMATION.

ADDRESSES: The meetings will be held by web conference via Webex. Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; phone: (808) 522-8220.

SUPPLEMENTARY INFORMATION: The FIAC will meet on Monday, June 6, from 1 p.m. to 4 p.m., American Samoa Archipelago FEP AP will meet on Tuesday, June 7, 2022, from 6 p.m. to 8 p.m., the NCFAC will meet on Wednesday, June 8, 2022 from 1 p.m. to 3:30 p.m., the Mariana Archipelago FEP—Guam AP will meet on Thursday, June 9, 2022, from 6:30 p.m. to 8:30 p.m., the Mariana Archipelago FEP-CNMI AP will meet on Friday, June 10, 2022, from 9 a.m. to 11 a.m., and the Hawaii Archipelago FEP AP will meet on Friday, June 10, 2022, from 9 a.m. to 12 noon. All times listed are local island times except for the FIAC and NCFAC which is in Hawaii Standard Time.

Public Comment periods will be provided in the agendas. The order in which agenda items are addressed may change. The meetings will run as late as necessary to complete scheduled business.

Schedule and Agenda for the FIAC Meeting

Monday, June 6, 2022, 1 p.m.-4 p.m. (Hawaii Standard Time)

1. Welcome and Introductions

2. Status Report on September 2021 FIAC Recommendations

3. 2023 US Territorial Bigeye Tuna (BET) Catch/Effort and Allocation Limit Specifications

4. Hawaii and American Samoa Small Boat Survey

5. NOAA Seafood Direct Marketing Project

6. US Military Notice of Hazardous Operations

7. Update on American Samoa Albacore Performance & Diversification

8. NMFS Appropriations

9. Permanent Advisory Committee to the Western and Central Pacific Fisheries Commission

10. Equity and Environmental Justice

A. Western Pacific (WP) and Council Coordinating Committee (CCC) Report on EEJ in Fisheries Management

B. NMFS Draft EEJ Strategy

11. Young Fishermen's Development Act

12. Outcomes from May 2022 CCC Meeting

13. Roundtable Update on Fishing/Market Issues/Impacts (billfish, transportation, etc.)

14. Other Issues

15. Public Comment

16. Discussion and Recommendations

Schedule and Agenda for the American Samoa Archipelago AP Meeting

Tuesday, June 7, 2022, 6 p.m.-8 p.m. (American Samoa Standard Time)

1. Welcome and Introductions

2. Review of Last AP Meeting and Recommendations

3. American Samoa (AS) Fishery Issues and Activities

A. Review of Draft Bottomfish Biological Opinion

B. 2023 US Territorial BET Catch/Effort Limit and Allocation Specification

C. 2021 Annual Stock Assessment and Fishery Evaluation (SAFE) Reports

D. Review of 2021 Bottomfish Management Unit Species (BMUS)

E. Coronavirus Aid, Relief and Economic Security Act Update

4. Equity and Environmental Justice

A. WP and CCC Report on EEJ in Fisheries Management

B. NMFS Draft EEJ Strategy

5. 2022 Marine Fisheries Advisory Committee (MAFAC) Report

6. 2021 American Samoa Small-Boat Study

7. American Samoa Biosampling Program Update

8. 2022 AP Activities Plan

A. Update on Sustainable Fisheries Fund (SFF) Projects

B. Education and Outreach

9. Feedback From The Fleet

A. AS Fishermen Observations

B. AP Fishery Issues and Activities

10. Public Comment

11. Discussion and Recommendations

12. Other Business

Schedule and Agenda for the NCFAC

Wednesday, June 8, 2022, 1 p.m.-3:30 p.m. (Hawaii Standard Time)

1. Welcome and Introductions

2. Review of Late NCFAC Meeting and Recommendations

3. Council Issues

A. Sector Allocation

B. Proposed Northwestern Hawaiian Islands (NWHI) Fishing Regulations

C. Marine Planning Discussion

D. Forage Fish Act Discussion

4. Report of National Recreational Fishing Summit

5. Non-Commercial Data Collection

A. Marine Recreational Information Program Regional Implementation Plan Update

B. Non-Commercial Annual Report Update

C. Discussion on Data Collection

6. Equity and Environmental Justice

A. WP and CCC Report on EEJ in Fisheries Management

B. NMFS Draft EEJ Strategy

7. Fishermen Observation

A. Changes in the fisheries this year to date

B. Changes in the ecosystem this year to date

8. Non-Commercial Fishing Activities, Issues, and Efforts

9. Public Comment

10. Discussion and Recommendations

11. Other Business

Schedule and Agenda for the Mariana Archipelago—Guam AP Meeting

Thursday, June 9, 2022, 6:30 p.m.-8:30 p.m. (Marianas Standard Time)

1. Welcome and Introductions

2. Review of Last AP Meeting and Recommendations

3. Guam Fishery Issues and Activities

A. Review of Draft Bottomfish Biological Opinion

B. 2023 US Territorial BET Catch/Effort Limit and Allocation Specification

C. 2021 Annual SAFE Reports

D. Review of 2021 BMUS

E. Catchit Logit (CILI) Updates

4. Equity and Environmental Justice

A. WP and CCC Report on EEJ in Fisheries Management

B. NMFS Draft EEJ Strategy

5. 2022 MAFAC Report

6. 2022 Advisory Panel Activities Plan

7. Feedback From The Fleet

A. Guam Fishermen Observations

B. AP Fishery Issues and Activities

8. Public Comment

9. Discussion and Recommendations

10. Other Business

Schedule and Agenda for the Mariana Archipelago—CNMI AP Meeting

Friday, June 10, 2022, 9 a.m.-11 a.m. (Marianas Standard Time)

1. Welcome and Introductions

2. Review of Last AP Meeting and Recommendations

3. CNMI Fishery Issues and Activities

A. Review of Draft Bottomfish Biological Opinion

B. 2023 US Territorial BET Catch/Effort Limit and Allocation Specification

C. 2021 Annual SAFE Reports

D. CILI Updates

4. Equity and Environmental Justice

A. WP and CCC Report on EEJ in Fisheries Management

B. NMFS Draft EEJ Strategy

5. 2022 MAFAC Report

6. 2022 Advisory Panel Activities Plan

A. AP Outreach and Education

7. Feedback From The Fleet

A. CNMI Fishermen Observations

B. AP Fishery Issues and Activities

8. Public Comment

9. Discussion and Recommendations

10. Other Business

Schedule and Agenda for the Hawaii Archipelago AP Meeting

Friday, June 10, 2022, 9 a.m.-12 noon (Hawaii Standard Time)

1. Welcome and Introductions

2. Review of Last AP Meeting and Recommendations

3. Council Issues

A. Proposed NWHI Fishing Regulations

B. Review of Draft Bottomfish Biological Opinion

C. Green Turtle Management Update

D. 2021 Annual SAFE Reports

4. Equity and Environmental Justice

A. WP and CCC Report on EEJ in Fisheries Management

B. NMFS Draft EEJ Strategy

5. 2022 MAFAC Report

6. 2021 Hawaii Small-Boat Study

7. AP Plan and Working Group Reports

A. Smart Fish Aggregation Devices

B. FishMaps

8. Feedback from the Fleet

A. Hawaii Fishermen Observations

B. AP Fishery Issues and Activities

9. Public Comment

10. Discussion and Recommendations

11. Other Business

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 17, 2022.
Tracey L. Thompson,
Acting Deputy Director, Office of Sustainable Fisheries, National Marine Fisheries Service.

[FR Doc. 2022-10893 Filed 5-19-22; 8:45 am]

BILLING CODE 3510-22-P